DEPARTMENT OF JUSTICE

Bureau of Prisons

28 CFR Part 541

[Docket No. BOP-1118-F]

RIN 1120-AB18

Inmate Discipline Program/Special Housing Units: Subpart Revision and Clarification

AGENCY: Bureau of Prisons, Justice.

ACTION: Final rule; correction.

SUMMARY: The Bureau of Prisons (Bureau) is correcting a final rule that appeared in the Federal Register of December 8, 2010 (75 FR 76263). The document issued a final rule amending the Bureau's Inmate Discipline Program and Special Housing Units (SHU) regulations. The Bureau issues this correction document in order to correct typographical and numbering errors. No substantive changes are being made to the final rule document.

DATES: This rule is effective on March 1, 2011.

ADDRESSES: Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION: The Bureau corrects its Inmate Discipline and Special Housing Units (SHU) regulations (28 CFR part 541, subpart A and subpart B), as published in the Federal Register of December 8, 2010 (75 FR 76263), FR Doc. 2010-30525, as follows:

1. On page 76266, in the second column, second full paragraph beginning “Code 331”, the reference to “§ 541.03” is corrected to read “§ 541.3”.

§ 541.3 [Corrected]

2. On page 76267, the title of Table 1, “Table 1—Prohibited Acts and Available Sanctions Greatest Severity Level Prohibited Acts” is corrected to read “Table 1—Prohibited Acts and Available Sanctions”.

3. On page 76267, in Table 1, between the line after the title of Table 1 and before the line beginning with “100”, insert a new line with a subheading to read as follows: “Greatest Severity Level Prohibited Acts”.

§ 541.7 [Corrected]

4. On page 76272, in the first column, in § 541.7(a)(4), “§ 541.04” is corrected to read “§ 541.4”.

5. On page 76272, in the first column, in § 541(g), “§ 541.08” is corrected to read “§ 541.8”.

§ 541.23 [Corrected]

12. On page 76273, in the third column, in § 541.23(c)(3), “You requested, or staff determined you need, administrative detention status for your own protection.” Is corrected to read “You requested, or staff determined you need, administrative detention status for your own protection; or”.

Harley G. Lappin,
Director, Federal Bureau of Prisons.

[FR Doc. 2010-32706 Filed 12-28-10; 8:45 am]

BILLING CODE P